DEPARTMENT OF HEALTH AND HUMAN SERVICES

Substance Abuse and Mental Health Services Administration

Center for Mental Health Services; Notice of Meeting

Pursuant to Public Law 92-463, notice is hereby given of the meeting of the Center for Mental Health Services (CMHS) National Advisory Council in January 2000.

All of this meeting will be open and will include a roll call, general announcements and a discussion of the mental health systems in Australia and New Zealand, school violence prevention program activities, consumer affairs, and Mental Health: A Report of the Surgeon General. Public comments are welcome. Please communicate with the individual listed as contact below for guidance. If anyone needs special accommodations for persons with disabilities please notify the contact listed below.

A summary of the meeting and a roster of Council members may be obtained from Ms. Patricia Gratton, Committee Management Officer, CMHS, Room 11C-26, Parklawn Building, Rockville, Maryland 20857, telephone (301) 443-7987.

Committee Name: CMHS National Advisory Council.

Meeting Dates: January 20-21, 2000.

Place(s): The DoubleTree Hotel (1/20/2000), 1750 Rockville Pike, Rockville, Maryland 20852.

Hilton Washington and Towers (1/21/2000), 1919 Connecticut Avenue, N.W., Washington, D.C. 20009.

Open: January 20, 9:00 a.m.-4:30 p.m.

Open: January 21, 9:00 a.m.-Adjournment.

Contact: Eileen S. Pensinger, Room 17C-27, Parklawn Building, Telephone: (301) 443-4823 and FAX (301) 443-4865.

Dated: January 11, 2000.
S.E. Stephens,
Acting Committee Management Officer, Substance Abuse and Mental Health, Services Administration.

[FR Doc. 00-1033 Filed 1-14-00; 8:45 am]

BILLING CODE 4162-20-U